DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action by Trade Adjustment Assistance for Period August 16, 2000-September 22, 2000
Firm name | Address | Date petition accepted | Product
Compol, Inc | 415 Campbell Mill Road, Mason, NH 03048 | 28-Sep-2000 | Special purpose radio receivers utilizing sub frequencies for use of targeted segments of the general public.
BGF Industries Inc | 3802 Robert Porcher Way, Greensboro, NC 27410 | 28-Sep-2000 | Fiberglass fabric for the electronics, automotive, aerospace and marine industries.
Nelson-Whittaker, Ltd. dba, Central Specialties, Ltd | 220-D Exchange Drive, Crystal Lake, IL 60014 | 28-Sep-2000 | Metal stands for trays or luggage.
Aneco Trousers Corporation | 713 Linden Avenue, Hanover, PA 17331 | 28-Sep-2000 | Men's trousers of wood and wool blend material.
Datatest, Inc | 6850 Hibbs Lane, Levittown, PA 19057 | 28-Sep-2000 | Instruments for measuring variables of liquids or gases.
Cozzoli Machine Company | 401 East Third Street, Plainfield, NJ 07060 | 28-Sep-2000 | Custom filling machinery and systems.
Taos Drum Company | 3956 Hwy 68, Ranchos de Taos, Taos, NM 87557 | 29-Sep-2000 | Native drums.
Superior Gearbox Co., Inc | 803 West Hwy. 32, Stockton, MO 65785 | 02-Oct-2000 | Right-angle gearboxes and pump drives.
Santa Fe Furniture Co. dba, Taos Furniture Co | 1807 Second Street, Santa Fe, NM 87505 | 02-Oct-2000 | Furniture of wood for bedrooms, dining rooms and entertainment centers.
E&S Equipment, Inc | 109 Skyland Drive, Norman, OK 73071 | 02-Oct-2000 | Valve parts.
Electron Corporation (The) | 5101 S. Rio Grande Street, Littleton, CO 80120 | 02-Oct-2000 | Gray and ductile iron castings.
Sassco, Inc. dba Taku Smokeries, dba Taku Fisheries | 550 S. Franklin Street, Juneau, AK 99801 | 02-Oct-2000 | Fresh and frozen seafood.
Alexander & Baldwin, Inc | P.O. Box 266, Puunene, HI 96784 | 02-Oct-2000 | Sugar and molasses.
Garland Industries, Inc | One South Main Street, Coventry, RI 02816 | 03-Oct-2000 | Pens and mechanical pencils.
Infra-Red Technologies, Inc | 1201 Burlington Street, N. Kansas City, MO 64116 | 06-Oct-2000 | Gas catalytic and electric infrared heating equipment.
J.N. White Associates, Inc | 135 N. Center Street, Perry, NY 14530 | 06-Oct-2000 | Screen-print high quality pressure sensitive labels.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the earth calendar day following the publication of this notice.

The Catalog of Federal Domestic Assistance official program number and title of the program under which these petitions are submitted is 11.313, Trade Adjustment Assistance.
Dated: October 17, 2000.
Anthony J. Meyer,
Coordinator, Trade Adjustment and Technical Assistance.

[FR Doc. 00-27371 Filed 10-24-00; 8:45 am]

BILLING CODE 3510-24-M